ENVIRONMENTAL PROTECTION AGENCY

40 CFR Part 300

[EPA-HQ-SFUND-1989-0011; FRL-9997-99-Region 3]

National Oil and Hazardous Substances Pollution Contingency Plan; National Priorities List: Partial Deletion of the Novak Sanitary Landfill Superfund Site

AGENCY: Environmental Protection Agency.

ACTION: Proposed rule; notice of intent.

SUMMARY: The Environmental Protection Agency (EPA) Region 3 is issuing a Notice of Intent to Delete the groundwater portion of the Novak Sanitary Landfill Superfund Site (Site) located in South Whitehall Township, Pennsylvania, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection (PADEP), have determined that all appropriate response actions to address the groundwater portion of the Site, other than monitoring, operations and maintenance and Five-Year Reviews (FYRs), have been completed. However, this deletion does not preclude future actions under Superfund.

This partial deletion pertains only to the groundwater portion of the Site. The landfill and landfill gas components of the Site will remain on the NPL and are not being considered for deletion as part of this action.

DATES: Comments must be received by September 9, 2019.

ADDRESSES: Submit your comments, identified by Docket ID no. EPA-HQ-SFUND-1989-0011, by one of the following methods:

• http://www.regulations.gov. Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: Remedial Project Manager: arquines.rombel@epa.gov.

• Mail: Community Involvement Coordinator: mandell.alexander@epa.gov.

Rombel Arquines (3SD21), U.S. Environmental Protection Agency, Region 3, 1650 Arch Street, Philadelphia, PA 19103-2029.

Alexander Mandell (3RA22), U.S. Environmental Protection Agency, Region 3, 1650 Arch Street, Philadelphia, PA 19103-2029.

• Hand delivery: U.S. Environmental Protection Agency, Region 3, 1650 Arch Street, Philadelphia, Pennsylvania 19103-2029. Such deliveries are only accepted during the Docket's normal hours of operation, and special arrangements should be made for deliveries of boxed information.

Instructions: Direct your comments to Docket ID no. EPA-HQ-SFUND-1989-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. Environmental Protection Agency, Region 3 Records Center, 1650 Arch Street, Philadelphia, Pennsylvania 19103-2029. Business Hours: 8 a.m.-5 p.m. (by appointment only), Monday-Friday excluding federal holidays (215) 814-3157.

Parkland Community Library, 4422 Walbert Ave., Allentown, PA 18104, Business Hours: Monday-Thursday 9 a.m.-9 p.m.; Friday 9 a.m.-6 p.m.; Saturday 9 a.m.-1 p.m.; closed Sunday. (610) 398-1361.

FOR FURTHER INFORMATION CONTACT: Rombel Arquines, Remedial Project Manager, U.S. Environmental Protection Agency, Region 3, (3SD21), U.S. Environmental Protection Agency, Region 3, 1650 Arch Street, Philadelphia, Pennsylvania 19103-2029, (215) 814-3182, arquines.rombel@epa.gov.

SUPPLEMENTARY INFORMATION:

Table of Contents

I. Introduction

II. NPL Deletion Criteria

III. Deletion Procedures

IV. Basis for Intended Partial Site Deletion

I. Introduction

EPA announces its intent to delete the groundwater portion of the Novak Sanitary Landfill Superfund Site (Site), from the National Priorities List (NPL) and requests public comment on this proposed action. The NPL constitutes Appendix B of 40 CFR part 300 which is the NCP, which EPA promulgated pursuant to section 105 of the CERCLA of 1980, as amended. EPA maintains the NPL as those sites that appear to present a significant risk to public health, welfare, or the environment. Sites on the NPL may be the subject of remedial actions financed by the Hazardous Substance Superfund (Fund). This deletion of the groundwater portion of the Site is proposed in accordance with 40 CFR 300.425(e) and is consistent with the Notice of Policy Change: Partial Deletion of Sites Listed on the National Priorities List. 60 FR 55466 (Nov. 1, 1995). As described in 300.425(e)(3) of the NCP, a portion of a site deleted from the NPL remains eligible for Fund-financed remedial action if future conditions warrant such actions.

EPA will accept comments on the proposal to partially delete this Site for thirty (30) days after publication of this document in the Federal Register.

Section II of this document explains the criteria for deleting sites from the NPL. Section III discusses procedures that EPA is using for this action. Section IV discusses the groundwater portion of the Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, EPA conducts FYRs to ensure the continued protectiveness of remedial actions where hazardous substances, pollutants, or contaminants remain at a site above levels that allow for unlimited use and unrestricted exposure. EPA conducts such FYRs even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the groundwater portion of the Site:

(1) EPA consulted with the Commonwealth of Pennsylvania before developing this Notice of Intent for Partial Deletion.

(2) EPA provided the Commonwealth of Pennsylvania thirty (30) working days for review of this notice prior to publication of it today.

(3) In accordance with the criteria discussed above, EPA has determined that no further response is appropriate.

(4) The Commonwealth of Pennsylvania, through the Pennsylvania Department of Environmental Protection (PADEP), has concurred with the deletion of the groundwater portion of the Site, from the NPL.

(5) Concurrently, with the publication of this Notice of Intent for Partial Deletion in the Federal Register, a notice is being published in a major local newspaper, the Parkland Press. The newspaper announces the 30-day public comment period concerning the Notice of Intent for Partial Deletion of the Site from the NPL.

(6) EPA placed copies of documents supporting the proposed partial deletion in the deletion docket, made these items available for public inspection, and copying at the Site information repositories identified above.

If comments are received within the 30-day comment period on this document, EPA will evaluate and respond accordingly to the comments before making a final decision to delete the groundwater portion of the Site. If necessary, EPA will prepare a Responsiveness Summary to address any significant public comments received. After the public comment period, if EPA determines it is still appropriate to delete the groundwater portion of the Site, the Regional Administrator will publish a final Notice of Partial Deletion in the Federal Register. Public notices, public submissions and copies of the Responsiveness Summary, if prepared, will be made available to interested parties and included in the site information repositories listed above.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Intended Partial Site Deletion

The following information provides EPA's rationale for deleting the groundwater portion of the Site from the NPL:

Site Background and History

The Site (EPA ID: PAD079160842) is located in the northern portion of South Whitehall Township in Lehigh County, Pennsylvania. The approximately 65-acre parcel is situated on a hillside north of Jordan Creek and south of Orefield Road. The Site is separated from neighboring properties by a steep drop in elevation to the south and southwest due to natural topography and to the buildup of the landfill disposal areas and storm-water management berms. The Beekmantown Group and Allentown Formation comprise the aquifer that underlies the Site. Groundwater mounds in the bedrock beneath the landfill waste, and water within the landfill flows radially.

From the mid-1950's until May 1990, Novak Sanitary Landfill, Inc. operated the Site as a landfill for municipal, commercial, and industrial solid waste. Alleged permit violations discovered by the Pennsylvania Department of Environmental Protection (PADEP) in 1984, then known as the Pennsylvania Department of Environmental Resources (PADER), led to a Site Investigation (SI) by EPA in 1985. The SI identified Site-related hazardous substances in the groundwater in proximity to private residential wells and a public supply well. Based on the information gathered in the SI, the Site was proposed to the National Priorities List (NPL) on January 22, 1987 (52 FR 2492) and added as final on October 4, 1989 (54 FR 41000).

The historical waste disposal areas of the landfill include:

• An old surface iron mine excavation (Old Mine Area) in the north-central area (approximately 9 acres) containing municipal, commercial and industrial waste;

• A demolition debris fill area (Demolition Fill Area) in the northeast area (approximately 2 acres) containing municipal and commercial solid waste;

• A Surface Fill Area (including the East, West and Southwest Trenches) containing municipal and commercial solid waste which extends across the northwestern and central part of the Site property (approximately 14 acres); and,

• A Trench Fill Area occupying the southern portion of the Site property (approximately 9 acres) also containing municipal and commercial solid waste.

Remedial Investigation and Feasibility Study (RI/FS)

On January 11, 1989, sixteen Potentially Responsible Parties (PRPs) entered into an Administrative Order on Consent with EPA to perform the Remedial Investigation (RI) and to prepare the Feasibility Study (FS) for the Site. The RI/FS report was approved by EPA on September 30, 1993.

Selected Remedy

The Selected Remedy for the Site was documented in a September 30, 1993 Record of Decision (1993 ROD) and modified in a March 13, 2015 Explanation of Significant Differences (2015 ESD). The Selected Remedy identified in the 1993 ROD was comprised of the following components:

• Installation of a perimeter fence around the Site boundaries;

• Implementation of deed restrictions within the Site boundaries;

• Removal of contaminated landfill surface water and sediments based on the results of additional sampling and environmental risk assessments to be conducted;

• Installation of landfill surface water control systems to provide drainage and to minimize soil erosion throughout the Site;

• Containment of the landfill contents by construction of a cap over the entire waste area, including the Surface Fill, Trench Fill, Old Surface Iron Mine Excavation and Demolition Debris Fill Areas; the constructed cap is a multilayer, impermeable soil cap with a geo-synthetic layer.

• Site restoration to promote wildlife habitat diversity without jeopardizing the integrity of the cap;

• Installation and monitoring of a gas collection system that is compatible with an active gas collection and treatment system;

• Ongoing leachate collection and monitoring throughout the Site and transport of leachate to an approved wastewater treatment facility by tanker for disposal;

• Preparation of a contingency method for on-site leachate treatment and disposal to surface water if approval for disposal at an approved wastewater treatment facility was not obtained;

• Long-term groundwater monitoring in the vicinity of the Site. Achievement of background levels or maximum contaminant levels (MCLs), whichever is lower, in groundwater. Create a contingency plan for provision of drinking water (via residential treatment units or waterline hookups) to affected residences. Delineation of the source of groundwater contamination in the vicinity of RW-13;

• Operation and Maintenance (O&M) of the vegetative soil cover, the cap and the treatment systems (gas venting system and leachate collection system) on-site.

The 2015 ESD modified the Selected Remedy as follows:

• It eliminated the requirement to continuously remove leachate from the landfill. Monitoring of the leachate system will continue and provisions for removing and treating additional leachate, if determined to be necessary by EPA, will remain.

• It eliminated the performance standard that required continuous removal of leachate to ensure that leachate depth in the waste disposal areas does not exceed one (1) foot.

• It changed the groundwater performance standard to the lower of either the MCL codified at 40 CFR part 141 and promulgated pursuant to the Safe Drinking Water Act, 42 U.S.C. 300f, et seq. or the non-zero maximum contaminant level goal (MCLG) for that contaminant. The ESD also modified the groundwater performance standard by including the requirement that, in addition to MCLs and non-zero MCLGs being achieved, the cumulative risk presented by all remaining Site-related compounds in the groundwater at the conclusion of the Selected Remedy must be at or below the 1 × 10⁻⁴ cancer risk level, and the non-cancer Hazard Index (HI) must be less than or equal to 1 for four consecutive quarters.

The Remedial Action Objectives (RAOs) for the Site as established in the 1993 ROD were as follows:

• Landfill Contents

—Prevent direct contact to exposed landfill contents;

• Leachate

—Prevent direct contact to the leachate seeps on the landfill surface;

—Reduce the leaching of constituents from the landfill contents to the groundwater;

• Landfill Gas

—Control subsurface off-site migration of landfill gas;

—Control combustible gas concentrations;

• Groundwater

—Prevent human ingestion and inhalation of groundwater containing Site-related constituents in excess of federal MCLs or Pennsylvania Water Quality Criteria;

—Prevent human ingestion and inhalation of groundwater which would present excess lifetime cancer risks greater than 1 × 10⁻⁴ or hazard indices greater than one (1);

—Remediate groundwater to background levels;

• On-Site Surface Water

—Remediate altered surface water quality exhibiting excess lifetime cancer risks greater than 1 × 10⁻⁴ or hazard indices greater than one (1);

—Prevent contact of surface water with landfill contents;

—Control surface water runoff and erosion;

• Ecological Receptors

—Conduct chronic toxicity studies (through environmental risk assessments) to determine if low levels of contamination may cause ecological impairment; and,

• Jordan Creek

—Based upon the analytical results of sediment samples taken from Jordan Creek, and an evaluation of groundwater and surface flow characteristics, it was determined that the conditions of Jordan Creek downstream of the landfill are consistent with conditions upstream of the landfill, or background conditions. Since inorganic sediment samples did not indicate that the creek was altered by surface water run-off from the Site, a determination was made that no further investigation of the creek was necessary.

Response Actions

Pursuant to a June 30, 1995 Unilateral Administrative Order for Remedial Design/Remedial Action (Docket No. III-95-52-DC), the PRP group developed a Remedial Design Report that was approved by EPA on July 16, 1999. The PRPs initiated construction of the Selected Remedy on June 5, 2000. The final inspection was completed on August 29, 2002 and construction completion for the Site was documented in the Preliminary Close-Out Report (PCOR), dated September 17, 2002. EPA approved the PRP Remedial Action Completion Report on July 13, 2004. The following Remedial Action (RA) activities were implemented by the PRP group according to the EPA-approved RD specifications:

• Installation of a perimeter fence around the Site boundaries;

• Installation of a multi-layered impermeable cap over the entire waste area;

• Removal of contaminated on-site surface water and sediments based on results of additional sampling and environmental risk assessments;

• Installation of surface water control systems to provide drainage and to minimize soil erosion throughout the Site which includes four sediment ponds, spillways, drainage swales, diversion berms, and a discharge line for surface waters to Jordan Creek;

• Site restoration to promote wildlife habitat diversity including planting wetland plant species within and around the sediment ponds;

• Installation and monitoring of a passive gas collection system that is compatible with an active gas collection and treatment system (if future data indicates it is needed); and

• Ongoing leachate collection and monitoring throughout the Site and transport of leachate through a series of sixteen extraction wells and three main leachate collection lines to a 100,000-gallon collection tank, and a pump house and tanker truck pad for transportation of the collected leachate to the Allentown wastewater treatment facility for disposal.

As required by the 1993 ROD, an investigation of the former well RW-13 was performed by the PRP group in March 1999 as part of a pre-design investigation to determine the source of contamination in groundwater. A soil vapor contamination assessment was conducted to assess the potential source of constituents detected in the former well RW-13, as well as to aid in locating additional monitoring wells. Two new monitoring wells, MW-24 and MW-25, were installed and analyzed after the soil vapor contamination assessment. These wells were placed to hydro-geologically isolate the maintenance area, a potential source area of contamination. It was concluded that the type and concentrations of constituents found in the bedrock wells MW-24 and MW-25 are consistent with the nature of impacted groundwater historically found in well RW-13, as well as other monitoring wells. No additional source area was identified. Long-term monitoring of Site monitoring wells and nearby residential wells has been performed since 2000.

Cleanup Levels

The 1993 ROD performance standard requiring continuous removal of leachate from the landfill to a depth of one foot was eliminated by the 2015 ESD. The groundwater cleanup levels for the COCs identified in the 1993 ROD, as modified in the 2015 ESD, are identified below in Table 1.

Table 1—Groundwater Cleanup Levels for Site Contaminants of Concern
Contaminant of concern | MCL (ug/L) * | Non-zero MCLG (ug/L) *
Organics:
benzene | 5 |
bromodichloromethane | 80 |
chlorobenzene | 100 | 100
chloroform | 80 | 70
dibromochloromethane | 80 | 60
1,4-dichlorobenzene | 75 | 75
1,1-dichloroethane | (**) | (**)
1,2-dichloroethane | 5 |
1,1-dichloroethene | 7 | 7
1,2-dichloroethene (cis) | 70 | 70
1,2-dichloroethene (trans) | 100 | 100
1,2-dichloropropane | 5 |
1,3-dichloropropene (trans) | (**) | (**)
ethyl benzene | 700 | 700
toluene | 1,000 | 1,000
tetrachloroethene | 5 |
1,1,1-trichloroethane | 200 | 200
trichloroethylene | 5 |
vinyl chloride | 2 |
xylene (total) | 10,000 | 10,000
Inorganics:
Cadmium | 5 | 5
Beryllium | 4 | 4
“.....” Non-zero MCLGs are not available for these site-related compounds.
* Values in bold are the selected performance standard.
** These site-related compounds do not have MCLs or non-zero MCLGs but were included in the cumulative risk assessment.

The PRP group samples 13 monitoring wells on an annual basis for the compounds listed in Table 1, above. Groundwater COC concentrations at all sampling locations have been below the cleanup levels for all COCs since 2004. Additionally, in accordance with the 2015 ESD, EPA performed a cumulative risk assessment using the four most recent annual groundwater sampling results from 2015 through 2018. The 2015 ESD specifies that the cumulative risk assessment be performed using data from four consecutive quarters. Since groundwater at the Site is monitored annually, rather than quarterly, EPA conservatively performed the risk assessment based upon four years, rather than four quarters, of monitoring data. Groundwater COC concentrations were compared to EPA Tap Water Risk Screening Level (RSLs) and if the RSL was exceeded, a risk assessment was performed. Chlorobenzene, 1,2-dichloroethane, TCE, and vinyl chloride exceeded their respective RSLs in the 2015-2018 dataset at a limited number of wells. However, when risks were calculated for these chemicals assuming a conservative default future residential exposure (ingestion, dermal exposure, and inhalation from showering exposure routes), the cumulative non-cancer HIs were below 1 and the cumulative cancer risks were below 1 × 10⁻⁴ at each monitoring well.

Based on the results of the annual groundwater monitoring and the cumulative risk assessment, the groundwater cleanup levels and performance standards have been achieved and the groundwater portion of the Site is eligible for deletion from the NPL.

Operation and Maintenance

O&M activities of the remediation system are being performed by the PRP group in accordance with the requirements of the 1995 UAO. Ongoing O&M activities include operation, maintenance, and monitoring of the Landfill cap and passive gas vent system, groundwater and residential well monitoring, and stormwater management. The PRP group also historically performed O&M of the leachate extraction system before it was decommissioned in 2011.

Landfill Cap

Vegetative cover at the Landfill is maintained by a cutting program. The entire Site is mowed three times per year. Wetland areas, vegetated with the specified wetland seed, are not mowed. Other cover vegetation maintenance measures include removal of trees, saplings, shrubs, weeds, and other plants that may cause damage to the cap system. The cap is also re-seeded where bare spots occur. Soil ruts, channels, washouts, animal burrows or other erosion greater than six inches deep are repaired. Repairs to the cap geo-synthetics and the on-site gravel road are completed, as necessary. Landfill cap maintenance is documented in monthly progress reports to EPA.

Landfill Gas Monitoring System

Quarterly gas monitoring is performed at 14 gas monitoring points located outside the perimeter of the Landfill cap, and 12 residences to ensure that measured concentrations of combustible gases remain below the lower explosive limit (LEL). The collected information includes flow, percent LEL, percent oxygen, and concentrations of VOCs, methane, carbon monoxide, and hydrogen sulfide in parts per million. Since the leachate extraction system was decommissioned, including the pump house electrical systems, the pump house is primarily used as storage and gas monitoring in the pump house is unnecessary.

The basements of 12 residences adjacent to the Site are monitored on a quarterly basis for the percent LEL and percent oxygen as well as total VOCs (TVOCs). Because the sampling method cannot distinguish specific VOCs, it cannot be the sole line of evidence used to determine if the measured TVOCs are from the Landfill or from household chemicals/solvents being used in the residences. In 2007-2008, a three-phase investigation addressed the concern that TVOCs detections in the monitoring results could be caused by gas migration from the Site. EPA concluded that the occasional TVOC results in the residential sampling were not Site-related and that further vapor intrusion mitigation action was not warranted at the Site. In the past five years, there have been no detections above the LEL and no detections of TVOC COCs above screening levels in any of the quarterly residential air monitoring samples.

A passive gas collection system was installed within the Landfill limits to collect and vent accumulated gases in the Surface Fill, Trench Fill, Demolition Fill, and Old Mine areas and to control gas migration. Additionally, 14 gas monitoring points (GMPs) were installed along the perimeter of the Landfill boundary. These passive gas points were installed to serve two purposes: (1) To intercept the potential migration of subsurface Landfill gas off-site, and (2) to monitor the effectiveness of the Landfill gas venting system. In addition, residential indoor air monitoring occurs quarterly. Since the installation of two pairs of passive gas vents in 2007, only three GMPs, GMP-3, GMP-7, and GMP-8, have had detections above the LEL of methane.

Quarterly monitoring of the on-site GMPs and residential properties will continue to be performed by the PRP group.

Leachate Extraction Wells

As indicated above, the leachate collection system was decommissioned in 2011. The leachate collection system was intended to remove accumulated leachate present beneath the Landfill as a singular event, prior to the construction of the cap. It accommodated leachate extraction from 21 pumping leachate extraction/gas venting wells (eventually optimized down to eight producing wells) at a combined maximum design flow rate of 63 gallons per minute. Extracted leachate was temporarily stored in an aboveground 100,000-gallon tank within a lined containment berm prior to transfer to the local Publicly Owned Treatment Works for disposal via tanker trucks. No leachate was pumped during the second leachate pilot (2009-2011), which tested the effects of shutting down the entire leachate system, or after EPA determined that the pilot provided sufficient evidence to discontinue pumping. The total cumulative volume of leachate that was removed from the Landfill since the leachate collection system's construction in 2002 was 304,481 gallons, including the final shipment in December 2011 of 72,000 gallons remaining in the tank before it was decommissioned.

Groundwater and Residential Well Monitoring

Designated Landfill monitoring wells are monitored annually to evaluate concentrations of the Landfill-related contaminants of concern relative to the performance standards specified in the 1993 ROD. Various residential wells in close proximity to the Site are sampled quarterly and one community supply well is sampled annually to confirm that the drinking water quality at the point of use remains below MCLs for drinking water. No groundwater COCs have been detected in site monitoring wells or residential wells since 2004. The monitoring wells and residential wells will continue to be monitored on an annual basis by the PRP group.

Storm-Water Management

The Site is graded to provide drainage off the cap, and to minimize soil erosion in accordance with the 1993 ROD requirements. The final design for the Site included a conversion of three existing sedimentation ponds into storm-water management basins. In addition to their dewatering devices, the basins have an overflow outlet structure or spillway, which helps dissipate any flow that leaves the basin through these structures. Additional storm-water management components include diversion berms and rip-rap lined drainage swales. Quarterly inspections are performed to evaluate the performance and maintenance needs of the storm-water management system.

Institutional Controls

Institutional Controls (ICs) were required by the 1993 ROD to prohibit: (1) The use of the land for residential or agricultural purposes; and (2) the use of on-site ground water for domestic purposes, including drinking water. The purpose of these restrictions is to prevent excavation or construction on the capped and closed Landfill, and to prevent the risks associated with human exposure to landfill contents, leachate and groundwater.

To fulfill the IC requirements in the 1993 ROD, a Uniform Environmental Covenant Act (UECA) covenant was recorded with the Lehigh County Recorder of Deeds on July 28, 2011. The Site property is currently owned by Novak Sanitary Landfill, Inc. Pursuant to the 2011 UECA Covenant, the PRP group has the authority to enforce the ICs at the Site property. The PRP group is responsible for monitoring compliance with the ICs, in accordance with the requirements of the 1995 UAO.

Five-Year Review

Pursuant to CERCLA section 121(c) and as provided in the current guidance on FYRs Comprehensive Five-Year Review Guidance, OSWER Directive 9355.7-03B-P, June 2001, EPA must conduct a statutory FYR if hazardous substances remain on-site above levels that would not allow for unlimited use and unrestricted exposure. EPA has performed three FYRs at the Site in 2006, 2011, and 2016 and statutory FYRs will continue to be performed because waste is left in place at the Site. The next FYR will be completed by May 16, 2021.

The Third FYR (signed May 16, 2016) concluded that the Site is protective of human health and the environment but identified one issue and recommendation that does not impact current or future protectiveness. The FYR recommended that an ecological investigation of the Site be performed to modify the O&M plan to meet the 1993 ROD's goal of promoting wildlife diversity.

The recommended ecological inspection was conducted on June 12, 2017 and potential solutions to promote wildlife habitat diversity were explored. Minor revisions to the O&M plan were completed in September 2018.

Community Involvement

In accordance with the requirements of 40 CFR 300.425(e)(4), EPA's community involvement activities associated with this partial deletion will consist of information supporting the deletion docket in the local Site information repository and placing a public notice of EPA's intent to delete the groundwater portion of the Site from the NPL in the Parkland Press, a major, local newspaper of general circulation.

Determination That the Site Meets the Criteria for Deletion in the NCP

Construction of the Selected Remedy for groundwater at the Site has been completed and O&M has been performed and is still ongoing in accordance with the EPA-approved O&M Plans. All RAOs, performance standards, and cleanup levels established for groundwater at the Site in the 1993 ROD, as amended by the 2015 ESD, have been achieved and the Selected Remedy for groundwater is protective of human health and the environment. No further Superfund response actions for the groundwater portion of the Site, other than O&M, monitoring, and FYRs, are necessary to protect human health and the environment. The Landfill and Landfill gas components of the Site will be considered for deletion from the NPL when all RAOs, performance standards, and cleanup levels have been achieved for those components.

The procedures specified in 40 CFR 300.425(e) have been followed for the deletion of the groundwater portion of the Site. EPA, with concurrence of the Commonwealth of Pennsylvania through PADEP, has determined that all appropriate response actions under CERCLA have been completed for the groundwater portion of the Site. Therefore, EPA proposes to delete the groundwater portion of the Site from the NPL.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 31, 2019.
Cosmo Servidio,
Regional Administrator, EPA Region 3.

[FR Doc. 2019-17017 Filed 8-7-19; 8:45 am]

BILLING CODE 6560-50-P